NATIONAL CREDIT UNION ADMINISTRATION

Sunshine Act; Notice of Matter To Be Deleted From the Agenda of a Previously Announced Open Meeting; and Notice of Matter To Be Added to the Agenda of a Previously Announced Closed Meeting

TIME AND DATE: 10 a.m., Thursday, June 17, 2010.

PLACE: Board Room, 7th Floor, Room 7047, 1775 Duke Street, Alexandria, VA 22314-3428.

STATUS: Open.

Matter To Be Deleted

3. Proposed Rule—Part 741 of NCUA's Rules and Regulations, Requirements for Insurance, Interest Rate Risk Policy and Program.

TIME AND DATE: 11:45 a.m., Thursday, June 17, 2010.

PLACE: Board Room, 7th Floor, Room 7047, 1775 Duke Street, Alexandria, VA 22314-3428.

STATUS: Closed.

Matter To Be Added

1. Consideration of Supervisory Activities (3). Closed pursuant to some or all of the following exemptions: (9)(A)(ii) and 9(B).

FOR FURTHER INFORMATION CONTACT: Mary Rupp, Secretary of the Board, Telephone: 703-518-6304

Mary Rupp,
Board Secretary.

[FR Doc. 2010-14820 Filed 6-15-10; 4:15 pm]

BILLING CODE P